DEPARTMENT OF THE INTERIOR

Fish and Wildlife Service

Availability of a Draft Environmental Assessment (EA) for the Grand-White Lakes Land Bridge Protection Project, Cameron Parish, LA

AGENCY: Fish and Wildlife Service, Interior.

ACTION: Notice.

The Service announces the availability of the draft EA for the Grand-White Lakes Land Bridge Protection Project. A more detailed description of the project is outlined in the SUPPLEMENTARY INFORMATION section below. A copy of the draft EA may be obtained by sending a written request to the Service's Louisiana Field Office (see ADDRESSES). Requests should be made in writing or can be obtained by calling Mr. Darryl Clark at 337/291-3100 or by fax at 337/291-3139. This notice is provided pursuant to NEPA regulations (40 CFR 1506.6).

The Service specifically requests information, views, and opinions from the public via this Notice on the Federal action, including the identification of any other aspects of the human environment not already identified in the Service's EA.

If you wish to comment, you may submit comments by any one of several methods. You may mail comments to the Service's Louisiana Field Office (see ADDRESSES). You also may comment via the internet to Darryl_Clark@fws.gov. Please submit comments over the internet as an ASCII file avoiding the use of special characters and any form of encryption. Please also include your name and return address in your internet message. If you do not receive a confirmation from the Service that we have received your internet message, contact us directly at the telephone numbers listed below (see FOR FURTHER INFORMATION CONTACT). Finally, you may hand deliver comments to the Service office listed below (see ADDRESSES). Our practice is to make comments, including names and home addresses of respondents, available for public review during regular business hours. Individual respondents may request that we withhold their home address from the administrative record. We will honor such requests to the extent allowable by law. There may also be circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

DATES: Written comments on the draft EA should be sent to the Service's Louisiana Field Office (see ADDRESSES) and should be received on or before October 21, 2002.

ADDRESSES: Persons wishing to review the draft EA may obtain a copy by writing to the Field Supervisor, U.S. Fish and Wildlife Service, 646 Cajundome Boulevard, Suite 400, Lafayette, Louisiana 70506. Documents will be available for public inspection by appointment during normal business hours at the Service's Louisiana Field Office (Attn: Darryl Clark). Written data or comments regarding the draft EA should be submitted to the Service's Louisiana Field Office. The data and comments must be submitted in writing to be adequately considered in the Service's decision-making process.

FOR FURTHER INFORMATION CONTACT: Mr. Darryl Clark, Senior Field Biologist, (see ADDRESSES above), telephone: 337/291-3111 or 337/291-3100, facsimile: 337/291-3139.

SUPPLEMENTARY INFORMATION: The Grand-White Lakes Land Bridge Protection Project is being funded through the Coastal Wetlands Planning, Protection and Restoration Act from the Tenth Priority Project List. The project purpose is to protect and facilitate the formation of marsh and submerged aquatic vegetation through the construction of a foreshore dike (with marsh creation) and earthen terraces, and by planting vegetation. The project is located in southwestern Louisiana in the southeastern portion of Grand Lake, approximately 15 miles northeast of Grand Chenier in Cameron Parish, Louisiana. The project area has experienced extensive marsh loss since the mid-1960s, with shoreline loss rates as high as 27 feet per year due mostly to elevated water levels produced by operation of water control structures for navigation and agricultural water supply purposes. The preferred alternative is to construct a foreshore dike, create marsh with dredged material from access channel construction, construct earthen terraces, and plant vegetation to protect and restore fresh marsh in the area and prevent the 17 mile-wide Grand Lake from eroding into Collicon Lake.

Dated: August 29, 2002.
Sam D. Hamilton,
Regional Director, Southeastern Region.

[FR Doc. 02-23794 Filed 9-18-02; 8:45 am]

BILLING CODE 4310-55-P